DEPARTMENT OF COMMERCE

National Oceanic and Atmospheric Administration

[I.D. 121406I]

Gulf of Mexico Fishery Management Council; Public Meetings

AGENCY: National Marine Fisheries Service (NMFS), National Oceanic and Atmospheric Administration (NOAA), Commerce.

ACTION: Notice of closed session Scientific and Statistical Committee (SSC) Selection Committee conference call.

SUMMARY: The Gulf of Mexico Fishery Management Council (Council) will convene its SSC Selection Committee via conference call to select several (2 or 3) of the Standing SSC members to serve on a select committee. The committee members will monitor the actions of the NMFS design and analysis group and report to the Council.

DATES: The conference call will be held on Friday, January 5, 2007 from 10 a.m. EDT to 10:30 a.m. EDT.

ADDRESSES: The meeting will be held via closed session conference call.

Council address: Gulf of Mexico Fishery Management Council, 2203 North Lois Avenue, Suite 1100, Tampa, FL 33607.

FOR FURTHER INFORMATION CONTACT: Mr. Wayne Swingle, Executive Director, Gulf of Mexico Fishery Management Council; telephone: (813) 348-1630.

SUPPLEMENTARY INFORMATION: The Gulf of Mexico Fishery Management Council will convene its SSC Selection Committee via conference call to select several (2 or 3) of the Standing SSC members to serve on a select committee. The committee members will monitor the actions of the NMFS design and analysis group and report to the Council in a closed session conference call on Friday, January 5, 2007 10 a.m. EDT. The Committee recommendations will be presented to the Council at the January 22 - 26, 2007 Council meeting in Point Clear, AL.

Special Accommodations

This meeting is physically accessible to people with disabilities. Requests for sign language interpretation or other auxiliary aids should be directed to Tina Trezza at the Council (see ADDRESSES) at least 5 working days prior to the meeting.

Dated: December 14, 2006.
Tracey L. Thompson,
Acting Director, Office of Sustainable Fisheries, National Marine Fisheries Service.

[FR Doc. E6-21627 Filed 12-19-06; 8:45 am]

BILLING CODE 3510-22-S